DEPARTMENT OF TRANSPORTATION

Pipeline and Hazardous Materials Safety Administration

[Docket: RSPA-98-4957]

Request for Public Comments and Office of Management and Budget (OMB) Approval of an Existing Information Collection (2137-0589)

AGENCY: Pipeline and Hazardous Materials Safety Administration (PHMSA), DOT.

SUMMARY: This notice requests public participation in the Office of Management and Budget (OMB) approval process for the renewal of an existing PHMSA information collection. In compliance with the Paperwork Reduction Act of 1995, this notice announces that the Information Collection Request (ICR) described below has been forwarded to OMB for extension of the currently approved collection. The ICR describes the nature of the information collection and the expected burden. PHMSA published a Federal Register Notice soliciting comments on the following information collection and received none. The purpose of this notice is to allow the public an additional 30 days from the date of this notice to submit comments.

DATES: Comments must be submitted on or before March 16, 2006.

ADDRESSES: Send comments to the Office of Information and Regulatory Affairs, Office of Management and Budget, 725-17th Street, NW., Washington, DC 20503, Attention DOT Desk Officer.

FOR FURTHER INFORMATION CONTACT: William Fuentevilla at (202) 366-6199, or by e-mail at William.Fuentevilla@dot.gov.

SUPPLEMENTARY INFORMATION: Comments are invited on whether the proposed collection of information is necessary for the proper performance of the functions of the Department, including whether the information will have practical utility; the accuracy of the Department's estimate of the burden of the proposed information collections; ways to enhance the quality, utility, and clarity of the information to be collected; and ways to minimize the burden of the collection of information on respondents, including the use of automated collection techniques or other forms of information technology. PHMSA published a Federal Register Notice with a 60-day comment period for this ICR on December 2, 2005 (70 FR 72323) and did not receive any comments.

This ICR relates to 49 CFR Part 194, Response Plans for Onshore Oil Pipelines. The rule requires an operator of an onshore oil pipeline facility to prepare and submit an oil spill response plan to PHMSA for review and approval when, because of its location, the facility could reasonably be expected to cause substantial harm to the environment if it were to discharge oil into navigable waters or adjoining shorelines. The rule established the planning requirements for oil spill response plans to reduce the environmental impact of oil discharged from onshore oil pipelines, as mandated by the Oil Pollution Act of 1990 (OPA 90). The rule provides greater specificity and guidance to facilities than is provided in OPA 90's statutory language to enhance private sector planning capabilities and to minimize the impacts of oil spills from pipelines.

The information collection required by the rule is the submission of response plans to PHMSA by affected pipeline operators. Additionally, operators must review and resubmit their response plans at least every 5 years, or in response to new or different operating conditions. Operators must submit any change or update to response plans within 30 days of making such a change. This information collection supports the DOT strategic goal of environmental stewardship by reducing pollution and other adverse environmental effects of transportation and transportation facilities.

As used in this notice, “information collection” includes all work related to preparing and disseminating information related to this recordkeeping requirement including completing paperwork, gathering information, and conducting telephone calls.

Type of Information Collection Request: Renewal of Existing Collection.

Title of Information Collection: Response Plans for Onshore Oil Pipelines.

Respondents: 367 hazardous liquid pipeline facilities.

Estimated Total Annual Burden on Respondents: 50,186 hours.

Issued in Washington DC, on February 8, 2006.
Florence L. Hamn,
Director of Regulations, Office of Pipeline Safety.

[FR Doc. 06-1355 Filed 2-13-06; 8:45 am]

BILLING CODE 4910-60-P